DEPARTMENT OF STATE

22 CFR Part 147

[Public Notice: 10027]

RIN 1400-AE42

Electronic and Information Technology

AGENCY: Department of State.

ACTION: Final rule.

SUMMARY: This rule provides a correction to a hyperlink included in the Section 508 implementing rule for the Department of State (the Department). The hyperlink takes the reader to a form that can be used by an employee or a member of the public to report accessibility issues to the Department, regarding its electronic and information technology.

DATES: This rule is effective on August 28, 2017.

FOR FURTHER INFORMATION CONTACT: Alice Kottmyer, Attorney-Adviser, 202-647-2318, kottmyeram@state.gov.

SUPPLEMENTARY INFORMATION: Section 508 requires that when Federal departments and agencies develop, procure, maintain, or use electronic and information technology, they shall ensure that the electronic and information technology is accessible to individuals with disabilities. The Department's implementing regulations, in 22 CFR part 147, were published in 2016. Due to a re-configuration of Web site assets within the Department, the hyperlink included in § 147.7(c) for the DS-4282 (Discrimination Complaint Form), is no longer valid. This rulemaking corrects the link.

The Department is preparing a more comprehensive update to Part 147, which will align its rule with the final rule published by the Access Board (see 82 FR 5790); and to parts 142 and 144 (implementing Section 504 of the Rehabilitation Act), to update terminology consistent with modern practice. For those interested in tracking, the RIN for the Department's “508 refresh” is 1400-AE35; for Section 504, it is 1400-AE03.

Regulatory Analyses

The Department of State is publishing this rulemaking as a final rule, pursuant to 5 U.S.C. 553(b). This rulemaking is a rule of agency organization, procedure, or practice. The effective date of the rule is 30 days after publication, as provided in the Administrative Procedure Act.

The Department further finds that this is not a major rule; is not subject to the Unfunded Mandates Reform Act of 1995; will not have tribal implications as defined by Executive Order 13175; and will not have an impact on a substantial number of small entities under the Regulatory Flexibility Act. This rule is not an economically significant rule under Executive Order 12866, and the Department certifies that the benefits of this rulemaking outweigh any costs, which are minimal for the public. The Office of Information and Regulatory Affairs has designated this rule as “non-significant”, as defined by Executive Order 12866. As this rule is not a significant regulatory action, this rule is exempt from the requirements of Executive Order 13771, “Reducing Regulation and Controlling Regulatory Costs.” See OMB Memorandum M-17-21, “Guidance Implementing Executive Order 13771” of April 5, 2017.

The Department of State has reviewed this rule in light of Executive Order 12988 to eliminate ambiguity, minimize litigation, establish clear legal standards, and reduce burden. This rule will not have substantial direct effect on the states, on the relationships between the national government and the states, or on the distribution of power and responsibilities among the various levels of government. Therefore, in accordance with Executive Order 13132, it is determined that this rule does not have sufficient federalism implications to require consultations or warrant the preparation of a federalism summary impact statement.

The information collection referred to in this rulemaking has been approved by OMB. (OMB Control No. 1405-0220).

List of Subjects in 22 CFR Part 147

Civil rights, Communications equipment, Computer technology, Government employees, Individuals with disabilities, Reporting and recordkeeping requirements, Telecommunications.

For the reasons set forth in the preamble, 22 CFR part 147 is amended as follows:

PART 147—ELECTRONIC AND INFORMATION TECHNOLOGY

1. The authority citation for part 147 continues to read as follows:

Authority: 22 U.S.C. 2651a; 29 U.S.C. 794, 794d; 36 CFR part 1194.

§ 147.7 [Amended]

2. Amend § 147.7 in paragraph (c) by removing “https://eforms.state.gov/searchform.aspx ” and adding in its place “https://eforms.state.gov/Forms/ds4282.PDF ”.

Janet Freer,
Director, Office of Directives Management, Department of State.

[FR Doc. 2017-15823 Filed 7-26-17; 8:45 am]

BILLING CODE 4710-05-P